DEPARTMENT OF TRANSPORTATION

Office of the Secretary

Aviation Proceedings, Agreements Filed During the Week Ending September 6, 2002

The following Agreements were filed with the Department of Transportation under the provisions of 49 U.S.C. 412 and 414. Answers may be filed within 21 days after the filing of the application.

Docket Number: OST-2002-13271.

Date Filed: September 3, 2002.

Parties: Members of the International Air Transport Association.

Subject: PTC3 0583 dated 6 September 2002, Mail Vote 233—Resolution 010a, TC3 Special Passenger Amending Resolution between China (excluding Hong Kong SAR and Macau SAR) and Thailand, Intended effective date: 20 September 2002.

Docket Number: OST-2002-13312.

Date Filed: September 6, 2002.

Parties: Members of the International Air Transport Association.

Subject: PTC COMP 0961 dated 10 September 2002, Mail Vote 234—Resolution 010b r1-r3, Special Passenger Amending Resolution—East Timor, Intended effective date: 15 September 2002.

Docket Number: OST-2002-13313.

Date Filed: September 6, 2002.

Parties: Members of the International Air Transport Association.

Subject: CTC COMP 0420 dated 10 September 2002, Mail Vote 235—Resolution 010uu r1-r3, Special Cargo Amending Resolution—East Timor, Intended effective date: 15 September 2002.

Docket Number: OST-2002-13314.

Date Filed: September 6, 2002.

Parties: Members of the International Air Transport Association.

Subject: PTC COMP 0949 dated 2 August 2002, Composite Resolution r1-r18, PTC COMP 0953 dated 13 August 2002—technical correction, Minutes—PTC COMP 0960 dated 6 September 2002, Intended effective date: 1 April 2003.

Dorothy Y. Beard,
Federal Register Liaison.

[FR Doc. 02-23477 Filed 9-13-02; 8:45 am]

BILLING CODE 4910-62-P